DEPARTMENT OF THE INTERIOR

Fish and Wildlife Service

[FWS-R5-R-2012-N200; BAC-4311-K9-S3]

Presquile National Wildlife Refuge, Chesterfield County, VA; Final Comprehensive Conservation Plan and Finding of No Significant Impact

AGENCY: Fish and Wildlife Service, Interior.

ACTION: Notice of availability.

SUMMARY: We, the U.S. Fish and Wildlife Service (Service), announce the availability of the final comprehensive conservation plan (CCP) and finding of no significant impact (FONSI) for Presquile National Wildlife Refuge (NWR, refuge) in Chesterfield County, Virginia. Presquile NWR is administered by the Eastern Virginia Rivers NWR Complex in Warsaw, Virginia. In this final CCP, we describe how we will manage the refuge for the next 15 years.

ADDRESSES: You may view or obtain copies of the final CCP and FONSI by any of the following methods. You may request a hard copy or a CD-ROM.

Agency Web site: Download a copy of the document at: http://www.fws.gov/northeast/planning/presquile/ccphome.html.

Email: Send requests to EasternVirginiaRiversNWRC@fws.gov. Include “Presquile CCP” in the subject line of your email.

Mail: Andy Hofmann, Project Leader, Eastern Virginia Rivers NWR Complex, U.S. Fish and Wildlife Service, P.O. Box 1030, 335 Wilna Road, Warsaw, VA 22572.

Fax: Attention: Andy Hofmann, 804-333-1470.

In-Person Viewing or Pickup: Call Andy Hofmann, Project Leader, at 804-333-1470 extension 112 during regular business hours to make an appointment to view the document.

FOR FURTHER INFORMATION CONTACT: Andy Hofmann, Project Leader, Eastern Virginia Rivers NWR Complex, U.S. Fish and Wildlife Service; mailing address: P.O. Box 1030, 335 Wilna Road, Warsaw, VA 22572; 804-333-1470 (phone); 804-333-3396 (fax); EasternVirginiaRiversNWRC@fws.gov (email) (please put “Presquile CCP” in the subject line).

SUPPLEMENTARY INFORMATION:

Introduction

With this notice, we finalize the CCP process for Presquile NWR. We started this process through a notice of intent in the Federal Register (76 FR 21001) on April 14, 2011. We announced the release of the draft CCP and environmental assessment (EA) to the public and requested comments in a notice of availability in the Federal Register (77 FR 47433) on August 8, 2012.

The 1,329-acre Presquile NWR is an island in the James River near Hopewell, Virginia, 20 miles southeast of Richmond. The refuge was established in 1953 as “an inviolate sanctuary, or for any other management purpose, for migratory birds.” It is one of many important migratory bird stopover sites along the Atlantic Flyway and provides protected breeding habitat for Federal and State-listed threatened and endangered species, as well as many neotropical migrant bird species. The refuge is comprised of a variety of wildlife habitats, including the open backwaters of the James River, tidal swamp forest, tidal freshwater marshes, grasslands, mixed mesic forest, and river escarpment.

Presquile NWR also offers a range of wildlife-dependent recreational opportunities, including environmental education programs for approximately 120 school-aged students each year, and a 3-day deer hunt each fall.

We announce our decision and the availability of the FONSI for the final CCP for Presquile NWR in accordance with National Environmental Policy Act (NEPA) (42 U.S.C. 4321 et seq.) requirements. We completed a thorough analysis of impacts on the human environment, which we included in the draft CCP/EA.

The CCP will guide us in managing and administering Presquile NWR for the next 15 years. Alternative B, as described for the refuge in the draft CCP/EA, and with minor modifications described below, is the foundation for the final CCP.

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing to the mission of the National Wildlife Refuge System (Refuge System), consistent with sound principles of fish and wildlife management, conservation, legal mandates, and our policies. In addition to outlining broad management direction on conserving wildlife and their habitats, CCPs identify wildlife-dependent recreational opportunities available to the public, including opportunities for hunting, fishing, wildlife observation and photography, environmental education, and interpretation. We will review and update the CCP at least every 15 years in accordance with the Refuge Administration Act.

CCP Alternatives, Including the Selected Alternative

Our draft CCP/EA (77 FR 47433) addressed several key issues, including:

• Managing refuge forests, grasslands, marshes, and aquatic habitats to benefit species of conservation concern, including Federal- and State-listed species.

• Protecting the water quality of wildlife habitats, including open water, tidal freshwater marsh, and tidal swamp forest, affecting the James River and Chesapeake Bay.

• Providing more public access opportunities on Presquile NWR.

• Balancing the protection of historic resources with wildlife and habitat conservation.

To address these issues and develop a plan based on the refuge's establishing purposes, vision, and goals, we evaluated two alternatives for Presquile NWR in the draft CCP/EA. The alternatives identify several actions in common. Both alternatives include measures to continue to share staff across the Eastern Virginia Rivers NWR Complex, require a permit for refuge access, maintain existing facilities, control invasive species, protect cultural resources, monitor for climate change impacts, distribute refuge revenue sharing payments, support research on the refuge, and participate in conservation and education partnerships. There are other actions that differ among the alternatives. The draft CCP/EA provides a full description of both alternatives and relates each to the issues and concerns that arose during the planning process. Below, we provide summaries of the two alternatives.

Management Alternatives

Alternative A (Current Management)

This alternative is the “no action” alternative required by NEPA. Alternative A defines our current management activities, including those planned, funded, or underway, and serves as the baseline against which to compare alternative B. Under alternative A, we will continue to protect tidal swamp forest and marsh habitats for priority refuge resources of concern on the refuge, such as the bald eagle, prothonotary warbler, American black duck and other waterfowl, and the federally threatened sensitive joint-vetch. We would accomplish this through continued partnerships with universities and the Virginia Department of Game and Inland Fisheries, and by limiting public access in sensitive areas. For James River aquatic resources, we would continue to improve riparian habitat, work with the James River Association (JRA) on water quality monitoring, and support efforts by Virginia Commonwealth University and other partners to restore sustainable, healthy populations of the federally endangered Atlantic sturgeon. We would also continue to maintain approximately 200 acres of grassland habitat for breeding and migrating songbirds.

Additionally, we would continue to provide environmental education programs both on- and off-refuge in partnership with the JRA, support wildlife-dependent recreation, and implement the 3-day fall deer hunt.

Alternative B (Focus on Species of Conservation Concern; Service-Preferred Alternative)

Alternative B is the Service-preferred alternative. It combines the actions we believe would best achieve the refuge's purposes, vision, and goals and respond to public issues. Under alternative B, we would emphasize the management of specific refuge habitats to support priority species whose habitat needs would benefit other species of conservation concern that are found in the area. Species of conservation concern include migrating waterfowl, waterbirds, and forest-dependent birds, the federally endangered Atlantic sturgeon, and the federally threatened sensitive joint-vetch. We would emphasize maintaining and restoring the forest integrity of tidal freshwater marsh, tidal swamp forest, the James River and associated backwater habitats, and mature mixed mesic forest habitats through increased monitoring and data collection, and a more aggressive response to habitat changes associated with invasive species, global climate change, or storm events. We would promote natural succession on 200 acres of grassland habitat, resulting in its conversion to transitional mixed mesic forest habitat over the long term, for the benefit of migratory bird species. We would also expand our conservation, research, monitoring, and management partnerships to help restore and conserve the refuge.

This alternative would enhance our visitor services programs to improve opportunities for environmental education and wildlife-dependent recreation. The improvements would include expanding the on-refuge environmental education program through a partnership with the JRA and enhancing interpretive materials. We would also evaluate opportunities to expand the hunting program to include turkey hunting and deer and/or turkey hunting opportunities for youth.

Comments

We solicited comments on the draft CCP/EA for Presquile NWR from August 2 to September 7, 2012 (77 FR 47433). During the comment period, we received 19 written responses. We evaluated all of the substantive comments we received, and include a summary of those comments, and our responses to them, as appendix F in the final CCP.

Selected Alternative

After considering the comments we received on our draft CCP/EA, we have made several minor changes to alternative B, including minor editorial, formatting, and typographical errors. These changes are described in the FONSI (appendix G in the final CCP) and in our response to public comments (appendix F in the final CCP).

We have selected alternative B to implement for Presquile NWR, with these minor changes, for several reasons. Alternative B comprises a mix of actions that, in our professional judgment, work best towards achieving the refuge's purposes, vision, and goals, Refuge System policies, and the goals of other State and regional conservation plans. We also believe that alternative B most effectively addresses key issues raised during the planning process. The basis of our decision is detailed in the FONSI (appendix G in the final CCP).

Public Availability of Documents

You can view or obtain the final CCP, including the FONSI, as indicated under ADDRESSES.

Dated: October 9, 2012.
Deborah Rocque,
Acting Regional Director, Northeast Region.

[FR Doc. 2012-28752 Filed 11-26-12; 8:45 am]

BILLING CODE 4310-55-P